FEDERAL COMMUNICATIONS COMMISSION

Network Reliability and Interoperability Council

AGENCY: Federal Communications Commission.

ACTION: Notice of public meeting.

SUMMARY: In accordance with the Federal Advisory Committee Act, this notice advises interested persons of the final meeting of the Network Reliability and Interoperability Council VI (Council) under its charter renewed as of December 26, 2001. The meetings will be held at the Federal Communications Commission in Washington, DC.

DATES: Friday, December 5, 2003 from 10 a.m. to 1 p.m.

ADDRESSES: Federal Communications Commission, 445 12th St., SW., Room TW-C305, Washington, DC.

FOR FURTHER INFORMATION CONTACT: Jeffery Goldthorp at 202-418-1096 or TTY 202-418-2989.

SUPPLEMENTARY INFORMATION: The Council was established by the Federal Communications Commission to bring together leaders of the telecommunications industry and telecommunications experts from academic, consumer and other organizations to explore and recommend measures that will enhance network security, reliability and interoperability. At this sixth and last meeting of the Network Reliability and Interoperability Council VI, the Council will consider and vote on its final recommendations.

Inadvertent administrative delay prevented publication of this in the Federal Register fifteen days before the meeting, and given the large number of people arriving from different parts of the country, it would have been infeasible to reschedule the meeting before the expiration of the Council's charter.

The Federal Communications Commission will attempt to accommodate as many people as possible. Admittance, however, will be limited to the seating available. The public may submit written comments before the meeting to Jeffery Goldthorp, the Commission's Designated Federal Officer for the Network Reliability and Interoperability Council, by e-mail, Jeffery.Goldthorp@fcc.gov or U.S. mail (7-A325, 445 12th St., SW., Washington, DC 20554). Real Audio and streaming video access to the meeting will be available at http://www.fcc.gov/.

Federal Communications Commission.
Marlene H. Dortch,
Secretary.

[FR Doc. 03-29346 Filed 11-20-03; 1:46 pm]

BILLING CODE 6712-01-P